DEPARTMENT OF TRANSPORTATION

Federal Aviation Administration

14 CFR Part 39

[Docket No. FAA-2007-27610 Directorate Identifier 2007-CE-023-AD; Amendment 39-15120; AD 2007-13-16]

RIN 2120-AA64

Airworthiness Directives; Diamond Aircraft Industries GmbH Model DA 42 Airplanes

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as:

It has been determined that the surface roughness of the wing stub safety walks Series 300, gray color (equals sandpaper grid 40), installed during production on some aeroplane S/Ns, adversely affects the aircraft single engine climb performance.

We are issuing this AD to require actions to correct the unsafe condition on these products.

DATES: This AD becomes effective August 10, 2007.

On August 10, 2007, the Director of the Federal Register approved the incorporation by reference of certain publications listed in this AD.

ADDRESSES: You may examine the AD docket on the Internet at http://dms.dot.gov or in person at Document Management Facility, U.S. Department of Transportation, Docket Operations, M-30, West Building Ground Floor, Room W12-140, 1200 New Jersey Avenue, SE., Washington, DC 20590.

FOR FURTHER INFORMATION CONTACT: Sarjapur Nagarajan, Aerospace Engineer, FAA, Small Airplane Directorate, 901 Locust, Room 301, Kansas City, Missouri 64106; telephone: (816) 329-4145; fax: (816) 329-4090.

SUPPLEMENTARY INFORMATION:

Discussion

We issued a notice of proposed rulemaking (NPRM) to amend 14 CFR part 39 to include an AD that would apply to the specified products. That NPRM was published in the Federal Register on April 24, 2007 (72 FR 20296). That NPRM proposed to correct an unsafe condition for the specified products. The MCAI states:

It has been determined that the surface roughness of the wing stub safety walks Series 300, gray color (equals sandpaper grid 40), installed during production on some aeroplane S/Ns, adversely affects the aircraft single engine climb performance.

AFM published twin engine climb performance is not affected by this AD.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

We estimate that this AD will affect 70 products of U.S. registry. We also estimate that it will take about 1 work-hour per product to comply with basic requirements of this AD. The average labor rate is $80 per work-hour. Required parts will cost about $285 per product. Where the service information lists required parts costs that are covered under warranty, we have assumed that there will be no charge for these parts. As we do not control warranty coverage for affected parties, some parties may incur costs higher than estimated here. Based on these figures, we estimate the cost of this AD to the U.S. operators to be $25,550 or $365 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://dms.dot.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-13-16 Diamond Aircraft Industries GmbH: Amendment 39-15120; Docket No. FAA-2007-27610; Directorate Identifier 2007-CE-023-AD.

Effective Date

(a) This airworthiness directive (AD) becomes effective August 10, 2007.

Affected ADs

(b) None.

Applicability

(c) This AD applies to Model DA 42 airplanes, serial numbers (S/N) 42.004 and up, certificated in any category.

Subject

(d) Air Transport Association of America (ATA) Code 57: Wings.

Reason

(e) The mandatory continuing airworthiness information (MCAI) states:

It has been determined that the surface roughness of the wing stub safety walks Series 300, gray color (equals sandpaper grid 40), installed during production on some aeroplane S/Ns, adversely affects the aircraft single engine climb performance.

AFM published twin engine climb performance is not affected by this AD.

Actions and Compliance

(f) Unless already done, do the following actions:

(1) For S/N 42.004 through 42.035, and 42.037: Within 60 days after August 10, 2007 (the effective date of this AD), do the following actions following Diamond Aircraft Industries GmbH Mandatory Service Bulletin No. MSB-42-006/1, dated September 20, 2005:

(i) Exchange the wing stub safety walks following paragraph 1.8, Action 2 a) to b) of Diamond Aircraft Industries GmbH Mandatory Service Bulletin No. MSB-42-006/1, dated September 20, 2005.

(ii) Insert Diamond Aircraft Airplane Flight Manual Temporary Revision Performance Data DA 42 AFM TR-MÄM-42-111/a, dated September 20, 2005, Revision 3 to the Airplane Flight Manual (AFM), or any future revision that incorporates the same information into the Diamond Aircraft Industries GmbH Aircraft Airplane Flight Manual DA 42, Doc. 7.01.05-E.

(2) For S/N 42.036, 42.038 through 42.064, 42.107, 42.109, 42.110, and 42.177: Within 60 days after August 10, 2007 (the effective date of this AD), insert Diamond Aircraft Airplane Flight Manual Temporary Revision Performance Data DA 42 AFM TR-MÄM-42-111/a, dated September 20, 2005, Revision 3 to the AFM, or any future revision that incorporates the same information into the Diamond Aircraft Industries GmbH Aircraft Airplane Flight Manual DA 42, Doc. 7.01.05-E.

(3) For S/N 42.004 and up: Within 60 days after August 10, 2007 (the effective date of this AD), adhere to the following:

(i) No wing stub safety walks Series 300 (equals sandpaper grid 40), gray color, part number (P/N) D60-1127-10-51 (no revision letter attached) may be installed as a spare part on the Model DA 42 airplane. Only Diamond Aircraft Industries (DAI) GmbH released safety walk P/Ns with a surface roughness equal to or finer than sandpaper grid 100 are approved for installation as spare parts.

(ii) Diamond Aircraft Airplane Flight Manual Temporary Revision Performance Data DA 42 AFM TR-MÄM-42-111/a, dated September 20, 2005, Revision 3 to the AFM, or any future revision that incorporates the same information, must remain part of Diamond Aircraft Industries GmbH Aircraft Airplane Flight Manual DA 42, Doc. 7.01.05-E.

FAA AD Differences

Note: This AD differs from the MCAI and/or service information as follows:

(1) The MCAI and service bulletin require the insertion of Diamond Aircraft Airplane Flight Manual Temporary Revision Performance Data DA 42 AFM TR-MÄM-42-111/a, dated September 20, 2005, Revision 3 to the Airplane Flight Manual, or any future revision that incorporates the same information into the Diamond Aircraft Industries GmbH Aircraft Airplane Flight Manual DA 42, Doc. 7.01.05-E, immediately upon receipt. We consider immediately upon receipt as an urgent safety of flight compliance time, and we do not consider this unsafe condition to be an urgent safety of flight condition. Because we do not consider this unsafe condition to be an urgent safety of flight condition, we issued this action through the normal notice of proposed rulemaking (NPRM) AD process followed by this final rule. The time of 60 days after August 10, 2007 (the effective date of this AD) is an adequate compliance for this AD action and met the FAA requirements of an NPRM followed by a final rule.

(2) Paragraphs A)i) and B)i) of the MCAI, state to assure that AFM TR-MAM-42-103, distributed with DAI MSB42-005, is inserted into AFM Doc. 7.01.05-E, rev. 2 or earlier revision. This AFM requirement was for an MCAI on which the United States did not take AD action. The action is no longer necessary when the actions in this AD are done. Therefore, the action is not being mandated in the U.S. AD action.

(3) The MCAI references revision 2 of the AFM. The FAA AD references revision 3.

Other FAA AD Provisions

(g) The following provisions also apply to this AD:

(1) Alternative Methods of Compliance (AMOCs): The Manager, Standards Staff, FAA, has the authority to approve AMOCs for this AD, if requested using the procedures found in 14 CFR 39.19. Send information to ATTN: Sarjapur Nagarajan, Aerospace Engineer, FAA, Small Airplane Directorate, 901 Locust, Room 301, Kansas City, Missouri 64106; telephone: (816) 329-4145; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et.seq.), the Office of Management and Budget (OMB) has approved the information collection requirements and has assigned OMB Control Number 2120-0056.

Related Information

(h) Refer to MCAI Austrian Civil Aviation Administration Austro Control GmbH AD No. A-2005-003, dated October 21, 2005; Diamond Aircraft Industries GmbH Mandatory Service Bulletin No. MSB-42-006/1, dated September 20, 2005; and Diamond Aircraft Temporary Revision Performance Data DA 42 AFM TR-MÄM-42-111/a, dated September 20, 2005, for related information.

Material Incorporated by Reference

(i) You must use Diamond Aircraft Industries GmbH Mandatory Service Bulletin No. MSB-42-006/1, dated September 20, 2005; and Diamond Aircraft Temporary Revision Performance Data DA 42 AFM TR-MÄM-42-111/a, dated September 20, 2005, to do the actions required by this AD, unless the AD specifies otherwise.

(1) The Director of the Federal Register approved the incorporation by reference of this service information under 5 U.S.C. 552(a) and 1 CFR part 51.

(2) For service information identified in this AD, contact Diamond Aircraft Industries Inc., 1560 Crumlin Sideroad, London, Ontario, Canada N5V 1S2; telephone: (519) 457-4051; fax: (800) 934-3519.

(3) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on June 21, 2007.
David R. Showers,
Acting Manager, Small Airplane Directorate, Aircraft Certification Service.

[FR Doc. E7-12500 Filed 7-5-07; 8:45 am]

BILLING CODE 4910-13-P